DEPARTMENT OF JUSTICE

Notice of Lodging of Settlement Agreement Under the Clean Air Act

Notice is hereby given that on May 29, 2014, a proposed consent decree in United States v. Landfill Technologies of Arecibo Corp., et al., No. 3:14-cv-01438, was lodged with the United States District Court of the District of Puerto Rico. The United States filed this action on the same day that the consent decree was lodged with the Court. The complaint alleges that defendants Landfill Technologies of Arecibo Corp., the Municipality of Arecibo, and the Puerto Rico Land Authority violated the Clean Air Act by failing to timely install a gas collection and control system at the municipal solid waste landfill located in Arecibo, Puerto Rico.

The settlement requires that the defendants operate the landfill's gas collection and control system in compliance with the applicable regulations, improve landfill operations, implement a recycling and composting plan, and pay civil penalties totaling $350,000. The consent decree resolves the civil claims of the United States for the Clean Air Act violations alleged in the complaint through the date of lodging of the consent decree.

The publication of this notice opens a period for public comment on the consent decree. Comments should be addressed to the Assistant Attorney General, Environment and Natural Resources Division, and should refer to United States v. Landfill Technologies of Arecibo Corp., D.J. Ref. No. 90-5-2-1-09629. All comments must be submitted no later than 30 days after the publication date of this notice. Comments may be submitted either by email or by mail:

To submit comments: | Send them to:
By email | pubcomment-ees.enrd@usdoj.gov.
By mail | Assistant Attorney General, U.S. DOJ B ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ B ENRD, P.O. Box 7611, Washington, DC 20044-7611.

Please enclose a check or money order for $12.00 (25 cents per page reproduction cost) payable to the United States Treasury.

Robert E. Maher, Jr.,
Assistant Section Chief, Environmental Enforcement Section, Environment and Natural Resources Division.

[FR Doc. 2014-13047 Filed 6-4-14; 8:45 am]

BILLING CODE 4410-15-P